DEPARTMENT OF DEFENSE

Department of the Air Force

32 CFR Part 884

[Docket ID: USAF-2018-HQ-0008]

RIN 0701-AA85

Delivery of Personnel to United States Civilian Authorities for Trial

AGENCY: Department of the Air Force, DoD.

ACTION: Final rule.

SUMMARY: This final rule removes the Department of the Air Force's regulation concerning the delivery of military personnel to U.S. civilian authorities for criminal prosecution. The part prescribes internal Air Force procedures and command responsibilities and is unnecessary.

DATES: This rule is effective on February 21, 2019.

FOR FURTHER INFORMATION CONTACT: Major Andrea M. Hunwick at 240-612-4829.

SUPPLEMENTARY INFORMATION: It has been determined that seeking public comment on the removal of this CFR part is impracticable, unnecessary, and contrary to public interest since it is based on removing publicly available internal Air Force policies and procedures.

The Air Force policy is available on the Air Force's online publication site (http://www.e-publishing.af.mil/). The pertinent internal Air Force instruction is currently numbered (AFI) 51-1001, but it is in the process of being renumbered and republished as AFI 51-205.

This rule is not significant under Executive Order (E.O.) 12866, “Regulatory Planning and Review,” therefore, E.O. 13771, “Reducing Regulation and Controlling Regulatory Costs” does not apply.

List of Subjects in 32 CFR Part 884

Courts, Government employees, Intergovernmental relations, Law enforcement, Military personnel.

PART 884—[REMOVED]

Accordingly, by the authority of 5 U.S.C. 301, 32 CFR part 884 is removed.

Henry Williams,
Acting Air Force Federal Register Liaison Officer.

[FR Doc. 2019-02944 Filed 2-20-19; 8:45 am]

BILLING CODE 5001-10-P